DEPARTMENT OF ENERGY

Federal Energy Regulatory Commission

[Docket Nos. EL17-32-000, EL17-36-000]

Old Dominion Electric Cooperative v. PJM Interconnection, L.L.C.; Advanced Energy Management Alliance v. PJM Interconnection, L.L.C.; Notice of Request for Comments and Technical Conference

Take notice that a staff-led conference will be held on April 24, 2018, at the offices of the Federal Energy Regulatory Commission, 888 First Street NE, Washington, DC 20426, between 9:30 a.m. and 4:15 p.m. (EDT). The purpose of the conference is to obtain further information concerning the above referenced proceedings. Supplemental notices will be issued prior to the technical conference with further details regarding the agenda, speakers, and organization of the technical conference. Commission staff will lead the conference, and Commissioners may attend.

On February 23, 2018, the Commission issued an order directing Commission staff to convene a technical conference and issue a request for comments in the above captioned dockets.¹ In advance of this conference, interested parties are asked to file comments on the following questions:

¹ Old Dominion Elec. Coop. v. PJM Interconnection, L.L.C., 162 FERC 61,160 (2018).

1. According to complainants, PJM indicated in the stakeholder process that a procurement of 80 percent Capacity Performance and 20 percent Base Capacity yields a near-zero loss of load expectation (LOLE) over 42 (non-summer peak) weeks of the year. Do these results provide information about the value of lost load in 10 peak-summer weeks versus the rest of the year? Is placing the majority of loss-of-load risk in 10 peak-summer weeks an appropriate allocation of risk for purposes of meeting the 1-in-10 LOLE target in a cost-effective manner? If yes, please explain why. If not, what would be a better distribution of risk that can still satisfy the 1-in-10 LOLE target?

2. How is the conclusion that PJM's current capacity procurement yields a near-zero LOLE in the winter consistent with PJM's experience in the Polar Vortex? How does the LOLE calculation take into account outage-related factors, for instance, planned maintenance outages are typically scheduled only during non-summer months?

3. Complainants argue that it is appropriate to procure more capacity for the summer months than for the non-summer months. What would be the advantages and disadvantages of (a) procuring this capacity by using annual and summer-only capacity products in a single auction, as PJM did in the past, versus (b) creating two distinct auctions, and procuring summer capacity in one auction and non-summer capacity in the other? Are there other viable methods to meet this objective? If so, please describe them.

4. Does PJM's load forecasting methodology reasonably reflect peak shaving efforts by end users?

a. What is the basis for the current load forecasting methodology and what are its advantages within the context of peak shaving practices?

b. Are there aspects of the current load forecasting methodology that can be improved and may be incorrect or resulting in unreasonable outcomes within the context of peak shaving practices?

c. Are there alternative methodologies to reflect peak shaving efforts? If so, what are they and are there obstacles to implementing them?

Preliminary comments responding to this notice should be submitted, in Docket Nos. EL17-32-000 and EL17-36-000, on or before April 4, 2018 and should not exceed 15 pages. Parties will have an opportunity to submit comments after the conference as well. Comments may be filed electronically via the internet. See the instructions on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, mail an original and seven copies to: Federal Energy Regulatory Commission, 888 First Street NE, Washington, DC 20426.

The conference will be open for the public to attend. Advance registration is not required but is highly encouraged. Attendees may register at the following web page: http://www.ferc.gov/whats-new/registration/04-24-18-form.asp. Attendees should allow time to pass through building security procedures before the 9:30 a.m. (EDT) start time of the technical conference. In addition, information on this event will be posted on the Calendar of Events on the Commission's website, www.ferc.gov, prior to the event.

Those also interested in speaking at the technical conference should notify the Commission by March 28, 2018 by completing the online form at the following web page: http://www.ferc.gov/whats-new/registration/04-24-18-speaker-form.asp.

The technical conference will be transcribed and will be part of the record in these proceedings. Transcripts will be available for a fee from Ace-Federal Reports, Inc. (202-347-3700). There will be a free webcast of the conference. The webcast will allow persons to listen to the technical conference, but not participate. Anyone with internet access who wants to listen to the conference can do so by navigating to the Calendar of Events at www.ferc.gov and locating the technical conference in the Calendar. The technical conference listing on the calendar will contain a link to its webcast.

The Capitol Connection provides technical support for the webcast and offers the option of listening to the meeting via phone-bridge for a fee. The phone bridge must be requested at least 24 hours in advance of the meeting. If you have any questions, visit www.CapitolConnection.org or call 703-993-3100. The webcast will be available on the Calendar of Events on the Commission's website www.ferc.gov for three months after the conference.

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about this technical conference, please contact:

Sarah McKinley (Logistical Issues), Office of External Affairs, 202-502-8368, sarah.mckinley@ferc.gov

John Riehl (Technical Issues), Office of Energy Market Regulation, 202-502-6026, john.riehl@ferc.gov

Noah Monick (Legal Issues), Office of General Counsel, 202-502-8299, noah.monick@ferc.gov

Dated: March 16, 2018.
Nathaniel J. Davis, Sr.,
Deputy Secretary.

[FR Doc. 2018-05948 Filed 3-22-18; 8:45 am]

BILLING CODE 6717-01-P